DEPARTMENT OF TRANSPORTATION

Federal Railroad Administration

Petition for Waiver of Compliance

In accordance with Part 211 of Title 49 Code of Federal Regulations (CFR), notice is hereby given that the Federal Railroad Administration (FRA) received a request for a waiver of compliance with provisions of the Hours of Service Law (108 Stat. 888, Pub. L. 103-272, 49 U.S.C. 21102(b)). The Hours of Service Law currently makes it unlawful for a railroad to require specified employees to remain on duty in excess of 12 hours. However, the Hours of Service Law contains a provision permitting a railroad, which employs not more than 15 employees subject to the statute, to seek an exemption from the 12 hour limitation.

Apalachicola Northern Railroad Company (AN)

(Waiver Petition Docket No. FRA-1999-5184)

The AN seeks an exemption so that it may permit certain employees to remain on duty not more than 16 hours in any 24-hour period. The AN requests a one hour extension to the maximum limit of twelve hours total on-duty time for covered service employees. The request is made due to changing operational needs. The AN currently operates on 96 miles of track in the State of Florida.

The petitioner indicates that granting the exemption is in the public interest and will not adversely affect safety. Additionally, the petitioner asserts it employs not more than 15 employees and has demonstrated good cause for granting this exemption.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 1999-5184) and must be submitted to the Docket Clerk, DOT Docket Management Facility, Room PL-401 (Plaza Level), 400 7th Street, S.W., Washington, D.C. 20590. Communications received within 30 days of the date of this notice will be considered by FRA before final action is taken. Comments received after that date will be considered as far as practicable. All written communications concerning these proceedings are available for examination during regular business hours (9:00 a.m.-5:00 p.m.) at the above facility. All documents in the public docket are also available for inspection and copying on the Internet at the docket facility's web site at

http://dms.dot.gov.

Issued in Washington, D.C. on May 18, 2000.
Grady C. Cothen, Jr.,
Deputy Associate Administrator for Safety Standards and Program Development.

[FR Doc. 00-12916 Filed 5-22-00; 8:45 am]

BILLING CODE 4910-06-P